COMMITTEE FOR THE IMPLEMENTATION OF TEXTILE AGREEMENTS

Determination Under the African Growth and Opportunity Act

September 1, 2004.

AGENCY: Committee for the Implementation of Textile Agreements (CITA).

ACTION: Directive to the Commissioner, Bureau of Customs and Border Protection.

SUMMARY: The Committee for the Implementation of Textile Agreements (CITA) has determined that certain textile and apparel goods from Tanzania shall be treated as “handloomed, handmade, or folklore articles” and qualify for preferential treatment under the African Growth and Opportunity Act. Imports of eligible products from Tanzania with an appropriate visa will qualify for duty-free treatment.

EFFECTIVE DATE: September 13, 2004.

FOR FURTHER INFORMATION CONTACT: Anna Flaaten, International Trade Specialist, Office of Textiles and Apparel, U.S. Department of Commerce, (202) 482-3400.

SUPPLEMENTARY INFORMATION:

Authority: The African Growth and Opportunity Act (Title I of the Trade and Development Act of 2000, Pub. L. No. 106-200) (AGOA) provides preferential tariff treatment for imports of certain textile and apparel products of beneficiary sub-Saharan African countries, including handloomed, handmade, or folklore articles of a beneficiary country that are certified as such by the competent authority in the beneficiary country. In Executive Order 13191, the President authorized CITA to consult with beneficiary sub-Saharan African countries and to determine which, if any, particular textile and apparel goods shall be treated as being handloomed, handmade, or folklore articles. (66 FR 7272).

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, handloomed, or folklore articles.

CITA has consulted with Tanzanian authorities, and has determined that handloomed fabrics, handloomed articles (e.g., handloomed rugs, scarves, place mats, and tablecloths), handmade articles made from handloomed fabrics, and the folklore articles described in the annex to this notice, if produced in and exported from Tanzania, are eligible for preferential tariff treatment under section 112(a) of the AGOA. In the letter published below, CITA directs the Commissioner of Customs and Border Protection to allow duty-free entry of such products under U.S. Harmonized Tariff Schedule subheading 9819.11.27 if accompanied by an appropriate AGOA visa in grouping “9”.

James C. Leonard III,
Chairman, Committee for the Implementation of Textile Agreements.

Committee for the Implementation of Textile Agreements

September 1, 2004.

Commissioner,

Bureau of Customs and Border Protection, Washington, DC 20229.

Dear Commissioner: The Committee for the Implementation of Textiles Agreements (CITA), pursuant to Sections 112(a) of the African Growth and Opportunity Act (Title I of Pub. L. No. 106-200) (AGOA) and Executive Order 13191 of January 17, 2001, has determined, effective on September 13, 2004, that the following articles shall be treated as “handloomed, handmade, and folklore articles” under the AGOA: (a) handloomed fabrics, handloomed articles (e.g., handloomed rugs, scarves, placemats, and tablecloths), and hand-made articles made from handloomed fabrics, if made in Tanzania from fabric handloomed in Tanzania; and (b) the folklore articles described in the attachment to this letter if made in Tanzania. Such articles are eligible for duty-free treatment only if entered under subheading 9819.11.27 and accompanied by a properly completed visa for product grouping “9”, in accordance with the provisions of the Visa Arrangement between the Government of Tanzania and the Government of the United States Concerning Textile and Apparel Articles Claiming Preferential Tariff Treatment under Section 112 of the Trade and Development Act of 2000. After additional consultations with Tanzanian authorities, CITA may determine that other textile and apparel goods shall be treated as handloomed, handmade, or folklore articles.

Sincerely,

James C. Leonard III,

Chairman, Committee for the Implementation of Textile Agreements.

ANNEX - Folklore Articles

CITA has determined that the following textile and apparel goods shall be treated as folklore articles for purposes of the AGOA if made in Tanzania and certified by a competent authority. Articles must be ornamented in characteristic Tanzanian or regional folk style, i.e., Kikoi items, as described below. An article may not include modern features such as zippers, elastic, elasticized fabrics, or hook-and-pile fasteners (such as Velcro ® or similar holding fabric). An article may not incorporate patterns that are not traditional or historical to Tanzania, such as airplanes, buses, cowboys, or cartoon characters and may not incorporate designs referencing holidays or festivals not common to traditional Tanzanian culture, such as Halloween and Thanksgiving.

Kikoi (also spelled kikoy)

Kikoi is a traditional Tanzanian multipurpose fabric of the East African coast, varying in size depending on use. Kikoi is a 100 percent cotton fabric, either handloomed or machine-made. Kikoi has distinct striped or plaid patterns and usually has knotted or un-knotted tassels along each hem. If striped, the stripes are vertical along the selvedge edges in bright colors, such as red, yellow, orange, green, or blue for garments. Folklore articles made of Kikoi fabric eligible for treatment as folklore articles are currently limited to the Mgolole, the Traditional Kikoi Shirt, and the Traditional Kikoi Boubou, as described below. Handloomed Kikoi fabric and handmade articles of such fabric may be eligible for preferential AGOA treatment as handloomed or handmade articles, but not as folklore articles.

Eligible folklore articles:

(a) Mgolole (Body Wrap, Scarf)

Made of Kikoi fabric, these traditional garments are worn as a wrap around garment by both men and women all over the East African coast, similar to the sarong of South East Asia. This traditional garment is draped over one shoulder and held in place with a knot. The Kikoi Mgolole can also be thrown over one shoulder for decoration or treated as a normal scarf. Dimensions for the Mgolole are approximately 45 x 80 inches long for wraps and 12 x 80 inches for scarves. The unfinished top and lower hems are knotted or un-knotted tassels along each hem.

(b) Traditional Kikoi Shirt

Made of Kikoi fabric, the article is a loose-fitting, straight-seamed shirt. Sleeves are half to three-quarter in length. The neckline is rounded or v- shaped, without collar. The shirt may or may not have square-shaped breast and lower front pockets. It may have wooden button fastenings below the neckline. Kikoi striped- trim typically decorates the neckline, pockets and each arm opening. The bottom hem and/or pockets may be finished or left unfinished with fringe or knotted tassels hanging.

(c) Traditional Kikoi Boubou (long tunic)

A loose flowing, straight-seamed, non-tailored, full-length outer tunic, made of Kikoi fabric. The neckline is rounded or v-shaped, without collar. Kikoi striped- trim decorates the neckline and each arm opening, which extend down the full length of the garment. There are no discernable sleeves. The garment is rectangular in shape. The bottom hem can be finished or left unfinished with fringe knotted tassels hanging.

[FR Doc. E4-2092 Filed 9-7-04; 8:45 am]

BILLING CODE 3510-DR-S